DEPARTMENT OF AGRICULTURE

Forest Service

Information Collection; Request for Comment; Application for Permit, Non-Federal Commercial Use of Roads Restricted by Order

AGENCY: Forest Service, USDA.

ACTION: Notice.

SUMMARY: In accordance with the Paperwork Reduction Act of 1995, the Forest Service is seeking comments from all interested individuals and organizations on the extension of a currently approved information collection, Application for Permit, Non-Federal Commercial Use of Roads Restricted by Order.

DATES: Comments must be received in writing on or before October 6, 2006 to be assured of consideration. Comments received after that date will be considered to the extent practicable.

ADDRESSES: Comments concerning this notice should be addressed to Director, Engineering Staff, RPC5, USDA Forest Service, 1400 Independence Avenue, SW., Mail Stop 1101, Washington, DC 20250-1101.

Comments also may be submitted via facsimile to (703) 605-1542 or by e-mail to: jbell01@fs.fed.us.

The public may inspect comments received at the Office of the Director of Engineering, USDA Forest Service, 1601 N. Kent. St., Room 500, Arlington, VA 22209 during normal business hours. Visitors are encouraged to call ahead to (703) 605-4646 to facilitate entry to the building.

FOR FURTHER INFORMATION CONTACT: John Bell, Engineering Staff, at (703) 605-4612. Individuals who use TDD may call the Federal Relay Service (FRS) at 1-800-877-8339, 24 hours a day, every day of the year, including holidays.

SUPPLEMENTARY INFORMATION:

Title: Application for Permit, Non-Federal Commercial Use of Roads Restricted by Order.

OMB Number: 0596-0016.

Expiration Date of Approval: August 31, 2006.

Type of Request: Extension of a currently approved collection.

Abstract: Authority for road use permits is derived from the National Forest Roads and Trails Act (Pub. L. 88-657, 16 U.S.C. 532-538, as amended). The law authorizes the Secretary of Agriculture to establish procedures for sharing investments in roads and to require commercial users to perform road maintenance commensurate with their use of roads. Detailed implementing regulations are contained in Title 36 of the Code of Federal Regulations, sections 212.5, 212.9, and 261.54. 36 CFR 212.5 and 36 CFR 212.9 authorize the Chief of the Forest Service to establish procedures for investment sharing and to require commercial users to perform road maintenance commensurate with use. 36 CFR 261.54 contains a national prohibition against using a National Forest System road for commercial hauling without a permit or written authorization when so provided by order. Forest Service policies implementing the regulations are found in Forest Service Manual chapter 7730. The policies require Forest Supervisors to enter into appropriate investment sharing arrangements, to require commercial users of National Forest System roads to perform road maintenance commensurate with their use, and to issue orders that implement the national prohibition at 36 CFR 261.54. These policies assure that those commercial haulers not already operating under investment and maintenance sharing provisions contained in Forest Service permits and contracts will obtain road use permits. The road use permits they obtain contain requirements for maintenance and investment sharing.

FS-7700-40—Application for Permit for Non-Federal Commercial Use of Roads Restricted by Order. This form is used by individuals, corporations, or organizations that apply for a permit to use National Forest System roads for non-Federal commercial use. The following information is collected: (1) Name, address, and telephone number; (2) identification by Forest Service route number of roads to be used; (3) purpose of use; (4) use schedule; and (5) plans for future use. The requester submits the information to the Forest Supervisor or District Ranger responsible for the National Forest System roads on which commercial vehicular use is requested. Engineering personnel on the staff of the responsible National Forest System unit evaluates the information. The information is used by the Forest Service to identify road maintenance required as a direct result of the applicant's vehicular traffic and to calculate the applicant's commensurate share of road maintenance. The information will also be used to calculate collections for recovery of past Federal investments in roads when that method of sharing investment is appropriate. These fees are then embodied in clauses in the road use permit (FS-7700-41) issued to the applicant.

Estimate of Annual Burden: 15 minutes per application.

Type of Respondents: Commercial users of National Forest System roads.

Estimated Annual Number of Respondents: 2,000.

Estimated Annual Number of Responses per Respondent: 1.

Estimated Total Annual Burden on Respondents: 500 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: July 28, 2006.
Gloria Manning,
Associate Deputy Chief, National Forest System.

[FR Doc. E6-12727 Filed 8-4-06; 8:45 am]

BILLING CODE 3410-11-P